DEPARTMENT OF STATE

[Public Notice 10600]

Convening of an Accountability Review Board To Examine the Facts and Circumstances Surrounding a January 6, 2017 Attack on a U.S. Government Employee of the U.S. Consulate General in Guadalajara, Mexico

On June 1, 2018, Secretary Pompeo authorized the convening of an Accountability Review Board (ARB) to review a January 2017 attack on a U.S. government employee in Guadalajara, Mexico. Pursuant to Section 304 of the Omnibus Diplomatic Security and Antiterrorism Act of 1986, as amended (22 U.S.C. 4834), the ARB will examine the facts and circumstances, and report findings and recommendations as it deems appropriate, in keeping with its mandate.

The Secretary has appointed Lisa Kubiske, a retired U.S. Ambassador, as Chair of the Board. The other Board members are retired Ambassador Linda Thomas-Greenfield, retired Ambassador Joan Plaisted, Ms. Carol Gallo, and Mr. John DeSalvio. They bring to their deliberations distinguished backgrounds in government service.

The Board will submit its conclusions and recommendations to Secretary Pompeo within 60 days of its first meeting, unless the Chair determines a need for additional time. Within the timeframes required by statute following receipt of the report, the Department will report to Congress on recommendations made by the Board and action taken with respect to those recommendations.

Anyone with information relevant to the Board's examination of these incidents should contact the Board promptly at (202) 647-6427 or send a fax to the Board at (202) 647-5792.

Dated: October 30, 2018.
William E. Todd,
Deputy under Secretary for Management, Department of State.

[FR Doc. 2018-24477 Filed 11-7-18; 8:45 am]

BILLING CODE 4710-10-P